NUCLEAR REGULATORY COMMISSION

Sunshine Federal Register Notice

Agency Holding the Meetings: Nuclear Regulatory Commission.

DATES: Weeks of June 29, July 6, 13, 20, 27, August 3, 2009.

Place: Commissioners' Conference Room, 11555 Rockville Pike, Rockville, Maryland.

Status: Public and Closed.

Week of June 29, 2009

Tuesday, June 30, 2009

1 p.m. Affirmation Session (Public Meeting) (Tentative).

U.S. Department of Energy (High-Level Waste Repository); Appeals of First Prehearing Conference Order (Tentative).

This meeting will be webcast live at the Web address— http://www.nrc.gov.

1:05 p.m. Discussion/Possible Vote on Final Rule—Update to Waste Confidence Decision (Public Meeting) (Tentative) (Contact: Rochelle Bavol, 301-415-1651).

This meeting will be webcast live at the Web address— http://www.nrc.gov.

Week of July 6, 2009—Tentative

There are no meetings scheduled for the week of July 6, 2009.

Week of July 13, 2009—Tentative

There are no meetings scheduled for the week of July 13, 2009.

Week of July 20, 2009—Tentative

There are no meetings scheduled for the week of July 20, 2009.

Week of July 27, 2009—Tentative

There are no meetings scheduled for the week of July 27, 2009.

Week of August 3, 2009—Tentative

There are no meetings scheduled for the week of August 3, 2009.

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: June 25, 2009.
Rochelle C. Bavol,
Office of the Secretary.

[FR Doc. E9-15515 Filed 6-26-09; 11:15 am]

BILLING CODE 7590-01-P